NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and one comment was received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION: Title of Collection: Hispanic-Serving Institutions Certification.

OMB Approval Number: 3145-0247.

Type of Request: Intent to seek approval to extend with revision an information collection for three years.

Abstract: To enhance the quality of undergraduate STEM education at Hispanic-serving institutions (HSIs), the National Science Foundation (NSF) established the Improving Undergraduate STEM Education: Hispanic-Serving Institutions (HSI Program), in response to the Consolidated Appropriations Act, 2017 (Pub. L. 115-31) and the American Innovation and Competitiveness Act (Pub. L. 114-329). The lead institution submitting a proposal to the HSI Program must be an HSI as defined by law in section 502 of the Higher Education Act of 1965 (20 U.S.C. 1101a) (https://www.govinfo.gov/content/pkg/PLAW-110publ315/html/PLAW-110publ315.htm). Hence there is a need for institutions to self-certify via an HSI Certification Form.

The HSI Program includes a specific track that provides a funding opportunity for institutions that are new to NSF[5] or are Primarily Undergraduate Institutions (PUIs [6]), including community colleges. PUIs are “accredited colleges and universities (including two-year community colleges) that award Associates degrees, Bachelor's degrees, and/or Master's degrees in NSF-supported fields, but have awarded 20 or fewer Ph.D./D.Sci. degrees in all NSF-supported fields during the combined previous two academic years.” PUI definition obtained from https://www.nsf.gov/funding/pgm_summ.jsp?pims_id=5518.

Hence there is a need for institutions to provide a self-certification of PUI eligibility for this track. The following language is used:

Certification of PUI Eligibility. A Certification of PUI Eligibility, following the format below and executed by an Authorized Organizational Representative, must be included in PUI requests (Planning or Pilot Projects (PPP) only). A current, signed Certification, included on institutional letterhead, should be scanned and included as a PDF file.

Certification of PUI Eligibility

By submission of this proposal, the institution hereby certifies that the originating and managing institution is an accredited college or university that awards Associates degrees, Bachelor's degrees, and/or Master's degrees in NSF-supported fields, but has awarded 20 or fewer Ph.D./D.Sci. degrees in all NSF-supported fields during the combined previous two academic years.

Authorized Organizational Representative

Typed Name and Title

Signature

Date

Expected respondents: Hispanic-Serving Institutions.

Estimate of burden: We anticipate 175 proposals for 2 minutes which is approximately 6 hours.

Dated: July 21, 2021.
Suzanne H. Plimpton,
Reports Clearance Officer, National Science Foundation.

[FR Doc. 2021-15905 Filed 7-26-21; 8:45 am]

BILLING CODE 7555-01-P